DEPARTMENT OF STATE

Bureau of Consular Affairs

[Public Notice 3375]

Registration for the Diversity Immigrant (DV-2002) Visa Program

ACTION: Notice of registration for the eighth year of the Diversity Immigrant Visa Program.

This public notice provides information on the procedures for obtaining an opportunity to apply for one of the 55,000 (maximum) immigrant visas to be made available in the Diversity Immigrant Visa (DV) category during Fiscal Year 2002. This notice is issued pursuant to 22 CFR 42.33(b)(2) which implements Sections 201(a)(3), 201(e), 203(c) and 204(a)(1)(G) of the Immigration and Nationality Act, as amended, (8 U.S.C. 1151, 1153, and 1154(a)(1)(G)).

What Are the Entry Procedures for Immigrant Visas To Be Made Available in the DV Category During Fiscal Year 2002?

Entries for the DV-2002 mail-in period must be received at the Kentucky Consular Center mailing address between noon (Eastern Time) on Monday, October 2, 2000 and noon (Eastern Time) on Wednesday, November 1, 2000. Entries received before or after these dates will be disqualified regardless of when they are postmarked. Entries sent to any address other than the Kentucky Consular Center address will also be disqualified.

How Are Visas Apportioned?

Visas are apportioned among six geographic regions with a greater number of visas going to regions with lower rates of immigration, and no visas going to countries sending more than 50,000 immigrants to the U.S. in the past five years. No one country can receive more than 7 percent of the diversity visas issued in any one year. For DV-2002, natives of the following are not eligible to apply:

Canada

China (mainland-born and Macau)

Colombia

Dominican Republic

El Salvador

Haiti

India

Jamaica

Mexico

Pakistan

Philippines

South Korea

United Kingdom (except Northern Ireland) and its dependent territories

Vietnam

What Are the Requirements for Applying for a Diversity Immigrant Visa for FY 2002?

Nativity

To enter, an applicant must be able to claim nativity in an eligible country, and must meet either the education or training requirement of the DV program. Nativity in most cases is determined by the applicant's place of birth. However, if a person was born in an ineligible country but his or her spouse was born in an eligible country, such person can claim the spouse's country of birth rather than his or her own provided both the applicant and spouse are issued visas and enter the U.S. simultaneously. Also, if a person was born in an ineligible country, but neither of his or her parents was born there or resided there at the time of the birth, such person may be able to claim nativity in one of the parents' country of birth.

Education or Training

To enter, an applicant must have either a high school education or its equivalent, defined in the U.S. as successful completion of a 12-year course of elementary and secondary education; or two years of work experience within the past five years in an occupation requiring at least two years of training or experience to perform. U.S. Department of Labor definitions will apply. If an applicant does not meet these requirements, he or she should not submit an entry to the DV program.

What Are the Procedures for Submitting an Entry?

Only one entry may be submitted by or for each applicant during the registration period. The applicant must personally sign the entry with his or her usual and customary signature, preferably in his or her native alphabet. The entry will be disqualified if the applicant:

• Submits more than one entry;

• Does not personally sign the entry with his or her usual and customary signature;

• Does not attach a recent photograph with his or her name printed on the back.

Completing the Entry

There is no specific format for the entry. Simply use a plain sheet of paper and type or clearly print in the English alphabet (preferably in the following order): (Failure to provide all of this information will disqualify the applicant.)

1. Full Name, with the last (surname/family) name underlined

Examples: Public, Sara Jane (or) Lopez, Juan Antonio

2. Date and Place of Birth

Date: Day, Month, Year EXAMPLE: 15 November 1961

Place: City/Town, District/County/Province, Country EXAMPLE: Munich, Bavaria, Germany

The name of the country should be that which is currently in use for the place where the applicant was born (Slovenia, rather than Yugoslavia; Kazakhstan rather than Soviet Union, for example).

3. The Applicant's Native Country, if Different from Country of Birth

If the applicant is claiming nativity in a country other than his or her place of birth, this must be clearly indicated on the entry. This information must match with what is put on the upper left corner of the entry envelope. (See “MAILING THE ENTRY” below.) If an applicant is claiming nativity through spouse or parent, this must be indicated on the entry. (See “Requirements” section for more information on this item.)

4. Name, Date and Place of Birth of the Applicant's Spouse and Children (If Any) (Failure to provide all of this information will disqualify the applicant.)

5. Full Mailing Address

This must be clear and complete, as any communications will be sent there. A telephone number is optional, but useful.

6. Photograph. Attach a recent, preferably less than 6 months old, photograph of the applicant, 1.5 inches (37 mm) square in size, with the applicant's name printed on the back. The photograph (not a photocopy) should be attached to the entry with clear tape—do not use staples or paperclips, which can jam the mail processing equipment.

7. Signature. The applicant must personally sign the entry, using his or her usual and customary signature. Failure to personally sign the entry will disqualify the applicant.

Mailing the Entry

The mailing address for all entries is the same, except for the Zip (Postal) Code. DV-2002 Program, Kentucky Consular Center, Lexington, KY (Zip Code)—(see below), U.S.A.

Submit the entry by regular or air mail to the above address using the ZIP CODE for the region of the applicant's country of nativity. Entries sent by express or priority mail, fax, hand, messenger, or any means requiring receipts or special handling will not be processed.

The envelope must be between 6 and 10 inches (15 to 25 cm) long and 3½ and 4½ inches (9 to 11 cm) wide. Postcards are not acceptable, nor are envelopes inside express or oversized mail packets. In the upper left hand corner of the envelope the applicant must write his or her country of nativity, followed by the applicant's name and full return address. The applicant must provide both the country of nativity and the country of the address, even if both are the same. Failure to provide this information will disqualify the entry. The mailing address for all entries is the same except for the Zip (Postal) Code.

The Zip (Postal) Codes are:

AFRICA—41901

ASIA—41902

EUROPE—41903

SOUTH AMERICA/CENTRAL AMERICA/CARIBBEAN—41904

OCEANIA—41905

NORTH AMERICA—41906

How are the regions divided?

AFRICA:

ZIP CODE: 41901 (includes all countries on the African continent and adjacent islands):

ALGERIA

ANGOLA

BENIN

BOTSWANA

BURKINA FASO

BURUNDI

CAMEROON

CAPE VERDE

CENTRAL AFRICAN REPUBLIC

CHAD

COMOROS

CONGO

CONGO, DEMOCRATIC REPUBLIC OF THE

COTE D'IVOIRE (IVORY COAST)

DJIBOUTI

EGYPT

EQUATORIAL GUINEA

ERITREA

ETHIOPIA

GABON

GAMBIA, THE

GHANA

GUINEA

GUINEA-BISSAU

KENYA

LESOTHO

LIBERIA

LIBYA

MADAGASCAR

MALAWI

MALI

MAURITANIA

MAURITIUS

MOROCCO

MOZAMBIQUE

NAMIBIA

NIGER

NIGERIA

RWANDA

SAO TOME & PRINCIPE

SENEGAL

SEYCHELLES

SIERRA LEONE

SOMALIA

SOUTH AFRICA

SUDAN

SWAZILAND

TANZANIA

TOGO

TUNISIA

UGANDA

ZAMBIA

ZIMBABWE

ASIA:

ZIP CODE: 41902 (extends from Israel to the northern Pacific islands, and includes Indonesia):

AFGHANISTAN

BAHRAIN

BANGLADESH

BHUTAN

BRUNEI

BURMA

CHINA-TAIWAN BORN ONLY

CAMBODIA

HONG KONG SPECIAL ADMINISTRATIVE REGION

INDONESIA

IRAN

IRAQ

ISRAEL

JAPAN

JORDAN

KUWAIT

LAOS

LEBANON

MALAYSIA

MALDIVES

MONGOLIA

NEPAL

NORTH KOREA

OMAN

QATAR

SAUDI ARABIA

SINGAPORE

SRI LANKA

SYRIA

THAILAND

UNITED ARAB EMIRATES

YEMEN

NB: In Asia CHINA-(mainland born, including Macau), India, Pakistan, Philippines, South Korea, and Vietnam do not qualify for this year's diversity program. [Hong Kong S.A.R. and Taiwan do qualify.]

EUROPE:

ZIP CODE: 41903 (Extends from Greenland to Russia, and includes all countries of the former USSR)

ALBANIA

ANDORRA

ARMENIA

AUSTRIA

AZERBAIJAN

BELARUS

BELGIUM

BOSNIA & HERZEGOVINA

BULGARIA

CROATIA

CYPRUS

CZECH REPUBLIC

DENMARK (including components and dependent areas overseas)

ESTONIA

FINLAND

FRANCE (including components and dependent areas overseas)

GEORGIA

GERMANY

GREECE

HUNGARY

ICELAND

IRELAND

ITALY

KAZAKHSTAN

KYRGYZSTAN

LATVIA

LIECHTENSTEIN

LITHUANIA

LUXEMBOURG

MACEDONIA, THE FORMER YUGOSLAV REPUBLIC OF

MALTA

MOLDOVA

MONACO

MONTENEGRO

NETHERLANDS (including components and dependent areas overseas)

NORTHERN IRELAND

NORWAY

POLAND

PORTUGAL

ROMANIA

RUSSIA

SAN MARINO

SERBIA

SLOVAKIA

SLOVENIA

SPAIN

SWEDEN

SWITZERLAND

TAJIKISTAN

TURKEY

TURKMENISTAN

UKRAINE

UZBEKISTAN

VATICAN CITY

NB: In Europe Great Britain, including the following dependent areas: Anguilla, Bermuda, British Virgin Islands, Cayman Islands, Falkland Islands, Gibraltar, Montserrat, Pitcairn, St. Helena, Turks and Caicos Islands do not qualify for this year's Diversity Program. Note that for purposes of the Diversity Program only, Northern Ireland is treated separately; Northern Ireland does qualify and is listed among the qualifying areas.

SOUTH AMERICA/CENTRAL AMERICA/CARIBBEAN:

ZIP CODE: 41904 (extends from Central America (Guatemala) and the Caribbean nations to Chile.)

ANTIGUA & BARBUDA

ARGENTINA

BARBADOS

BELIZE

BOLIVIA

BRAZIL

CHILE

COSTA RICA

CUBA

DOMINICA

ECUADOR

GRENADA

GUATEMALA

GUYANA

HONDURAS

NICARAGUA

PANAMA

PARAGUAY

PERU

SAINT KITTS & NEVIS

SAINT LUCIA

SAINT VINCENT & THE GRENADINES

SURINAME

TRINIDAD AND TOBAGO

URUGUAY

VENEZUELA

NB: In South America Colombia, Dominican Republic, El Salvador, Haiti, Jamaica, and Mexico do not qualify for this year's Diversity Program.

OCEANIA:

ZIP CODE: 41905 (includes Australia, New Zealand, Papua New Guinea and all countries and islands of the South Pacific):

AUSTRALIA (including components and dependent areas overseas)

FIJI

KIRIBATI

MARSHALL ISLANDS

MICRONESIA, FEDERATED STATES OF

NAURU

NEW ZEALAND (including components and dependent areas overseas)

PALAU

PAPUA NEW GUINEA

SOLOMON ISLANDS

TONGA

TUVALU

VANUATU

WESTERN SAMOA

NORTH AMERICA:

ZIP CODE: 41906 (includes the Bahamas):

BAHAMAS, THE

NB: In North America, Canada does not qualify for this year's Diversity Program.

IMPORTANT NOTICE: Applicants must meet all eligibility requirements under the U.S. law in order to be issued visas.

Processing of applications and issuance of diversity visas to successful applicants and their eligible family members MUST occur by September 30, 2002. Under no circumstances can Diversity Visas be issued or adjustments approved after this date. Family members may not obtain diversity visas to follow to join the applicant in the U.S. after this date.

There is no initial fee, other than postage, required to enter the DV-2002 program. The use of an outside intermediary or assistance to prepare a DV-2002 entry is entirely at the applicant's discretion. Qualified entries received directly from applicants or through intermediaries have equal chances of being selected by computer. There is no advantage to mailing early, or mailing from any particular place. Every application received during the mail-in period will have an equal random chance of being selected within its region. However, more than one application per person will disqualify the person from registration.

How are winners selected?

Applicants will be selected at random by computer from among all qualified entries.

Notifying Winners

Only successful entrants will be notified. They will be notified by mail between May through July of 2001 at the address listed on their entry. Winners will also be sent instructions on how to apply for an immigrant visa, including information on the fee for immigrant visas and a separate visa lottery surcharge. Successful entrants must complete the immigrant visa application process and meet all eligibility requirements under U.S. law to be issued a visa. Persons not selected will NOT be notified. U.S. embassies and consulates will not be able to provide a list of successful applicants. Spouses and unmarried children of successful applicants under 21 may also apply for visas to accompany or follow to join the principal applicant. DV 2002 visas will be issued between October 1, 2001 and September 30, 2002.

Being selected as a winner in the DV Lottery does not automatically guarantee being issued a visa even if the applicant is qualified, because the number of entries selected and registered is greater than the number of immigrant visas available. Those selected will, therefore, need to complete and file their immigrant visa applications quickly. Once all the diversity visas have been issued or on September 30, 2002, whichever is sooner, the DV Program for Fiscal Year 2002 will end.

Obtaining Instructions on Entering the DV Lottery

Interested persons may call (202) 331-7199, which describes the various means to obtain further details on entering the DV-2002 program. Applicants overseas may contact the nearest U.S. embassy or consulate for instructions on the DV lottery. DV information is also available in the Visa Bulletin on the Internet at http://travel.state.gov or via the Consular Affairs automated fax at (202) 647-3000 (code 1550). Calls to the automated fax service must be made from a fax machine using the receiver or voice option of the caller's fax equipment.

Dated: July 26, 2000.
Mary A. Ryan,
Assistant Secretary for Consular Affairs, Department of State.

[FR Doc. 00-19363 Filed 7-28-00; 8:45 am]

BILLING CODE 4710-06-U